DEPARTMENT OF AGRICULTURE

Submission for OMB Review; Notice of Request for Emergency Approval

April 29, 2022.

In compliance with the requirements of the Paperwork Reduction Act of 1995 (PRA), the Department of Agriculture (USDA) has submitted a request to the Office of Management and Budget (OMB) for a six-month emergency approval of the following information collection: ICR 0560-NEW, Cotton and Wool Appeal Program. The Farm Service Agency (FSA) will begin distributing payments for Cotton and Wool Apparel (CAWA) Program. USDA directed FSA to implement payments under CAWA to apparel manufacturers of men's and boys' worsted wool suits, sport coats, pants, or Pima cotton dress shirts; Pima cotton spinners; and wool fabric manufacturers and wool spinners who had a decrease in sales or consumption compared to a previous year and have filed an affidavit for a payment in any year from 2017 to 2021 from the trust funds authorized by sections 12602 and 12603 of the 2018 Farm Bill.

Farm Service Agency

Title: Cotton and Wool Apparel (CAWA) Program.

OMB Control Number: 0560-NEW.

Summary of Collection: The Farm Service Agency (FSA) is requesting emergency clearance and review through 5 CFR 1320.13 for a new information collection for the Cotton and Wool Apparel Program. FSA will assist in the development and restoration of the market for domestically produced cotton and wool products and ultimately for the underlying commodities.

Ruth Brown,
Departmental Information Collection Clearance Officer.

[FR Doc. 2022-09584 Filed 5-4-22; 8:45 am]

BILLING CODE 3410-05-P